FEDERAL ELECTION COMMISSION

Sunshine Act Meetings

FEDERAL REGISTER CITATION OF PREVIOUS ANNOUNCEMENT: 85 FR 21232.

PREVIOUSLY ANNOUNCED TIME AND DATE OF THE MEETING: Tuesday, April 21, 2020 at 10:00 a.m.

CHANGES IN THE MEETING: The meeting will be a Virtual Meeting.

CONTACT PERSON FOR MORE INFORMATION: Judith Ingram, Press Officer. Telephone: (202) 694-1220.

Laura E. Sinram,
Acting Secretary and Clerk of the Commission.

[FR Doc. 2020-08565 Filed 4-17-20; 4:15 pm]

BILLING CODE 6715-01-P